DEPARTMENT OF AGRICULTURE

Forest Service

Notice of Forest Service Land Management Plans To Be Amended To Incorporate Greater Sage-Grouse Conservation Measures

AGENCY: Forest Service, USDA.

ACTION: Notice, Request for Comments.

SUMMARY: The Bureau of Land Management (BLM) published a Notice of Intent (NOI) on December 9, 2011 [76 FR 77008] to prepare environmental impact statements (EISs) and supplemental environmental impact statements to incorporate greater sage-grouse conservation measures into land use plans and land management plans. The BLM is the lead agency for this action and in the preparation of these EISs and Supplemental EISs and the Forest Service is participating as a cooperating agency. On February 10, 2012 [77 FR 7178] the BLM published a Notice of Correction that changed the names of the regions that are coordinating the Environmental Impact Statements and Supplemental EISs, extended the scoping period, and added 11 Forest Service Land Management Plans to this process. This notice has been published to ensure all stakeholders, interested in Forest Service activities, are aware of the Notice of Intent published by the BLM and are provided a complete list of potentially impacted forests and grasslands.

DATES: Consistent with the February 10, 2012, BLM Notice of Correction, comments on issues as part of the public scoping process for the EISs/SEISs may be submitted in writing until March 23, 2012.

ADDRESSES: You may submit comments related to the greater sage-grouse planning effort by any of the following methods:

• Rocky Mountain Region: Web site: http://www.blm.gov/wo/st/en/prog/more/sagegrouse/eastern.html. Email: sageeast@blm.gov. Fax: 307-775-6042. Mail: Eastern Region Project Manager, BLM Wyoming State Office, 5353 Yellowstone, Cheyenne, Wyoming 82009.

• Great Basin Region: Web site: http://www.blm.gov/wo/st/en/prog/more/sagegrouse/western.html. Email: sagewest@blm.gov. Fax: 775-861-6747. Mail: Western Region Project Manager, BLM Nevada State Office, 1340 Financial Blvd., Reno, Nevada 89502.

FOR FURTHER INFORMATION CONTACT: For further information and/or to have your name added to our mailing list, contact:

• Johanna Munson, Rocky Mountain Region Project Manager, telephone 307-775-6329; address 5353 Yellowstone Road, Cheyenne, WY 82009; email jmunson@blm.gov, or:

• Lauren Mermejo, Great Basin Region Project Manager, telephone 775-861-6400; address 1340 Financial Boulevard, Reno, NV 89520; email lmermejo@blm.gov, or

• Glen Stein, Forest Service Project Manager, telephone 801-625-5281; address 324 25th Street, Ogden, UT 84401; email gstein@fs.fed.us.

SUPPLEMENTARY INFORMATION: Although the majority of all scoping meetings have been completed, the date(s) and location(s) of any additional scoping meetings will be announced at least 15 days in advance through local media, newspapers, and the BLM Web site for the Rocky Mountain Region at http://www.blm.gov/wo/st/en/prog/more/sagegrouse/eastern.html, and for the Great Basin Region at http://www.blm.gov/wo/st/en/prog/more/sagegrouse/western.html. Comments that are specific to a particular area, Resource Management Plan, or Land Management Plan should be identified as such. The BLM will provide additional opportunities for public participation upon publication of the Draft EISs/SEISs.

Following are the list of National Forests and Grassland potentially impacted:

Within the Rocky Mountain Region

• Colorado

○ Routt National Forest

• Utah

○ Ashley National Forest

○ Manti-Lasal National Forest

○ Wasatch-Cache National Forest

○ Uinta National Forest

• Wyoming

○ Thunder Basin National Grassland

○ Bridger-Teton National Forest

○ Medicine Bow National Forest

Within the Great Basin Region

• Idaho

○ Boise National Forest

○ Salmon National Forest

○ Challis National Forest

○ Targhee National Forest

○ Curlew National Grassland

○ Caribou National Forest

○ Sawtooth National Forest

• Montana

○ Beaverhead-Deerlodge National Forest

• Nevada

○ Humboldt National Forest

○ Toiyabe National Forest

• Utah

○ Dixie National Forest

○ Fishlake National Forest

Dated: February 21, 2012.
Faye L. Krueger,
Associate Deputy Chief, NFS.

[FR Doc. 2012-5048 Filed 3-1-12; 8:45 am]

BILLING CODE 3410-11-P